DEPARTMENT OF ENERGY

Federal Energy Regulatory Commission

[Docket No. RP00-260-000]

Texas Gas Transmission Corporation; Notice of Proposed Changes In FERC Gas Tariff

May 3, 2000.

Take notice that on April 28, 2000, Texas Gas Transmission Corporation (Texas Gas) tendered for filing to become part of its FERC Gas Tariff, First Revised Volume No. 1, the tariff sheets listed in Appendix A to the filing, with an effective date of June 1, 2000.

Texas Gas states that the proposed general rate case changes would increase revenues from jurisdictional transportation services by approximately $81 million, based on the twelve-month period ended January 31, 2000, as adjusted, compared with the underlying rates.

Texas Gas states that the adjustments in rates are attributable to:

(1) An increase in the utility rate base;

(2) Increases in depreciation expense;

(3) Increase in rate of return and related taxes; and

(4) Revised system rate design quantities.

Texas Gas further states that it has served copies of this filing upon the company's jurisdictional customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boegers,
Secretary.

[FR Doc. 00-11490 Filed 5-8-00; 8:45 am]

BILLING CODE 6717-01-M